DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Manufacturing Extension Partnership (MEP) Management Information Reporting.

OMB Control Number: 0693-0032.

Form Number(s): None.

Type of Request: Regular Submission.

Number of Respondents: 60.

Average Hours Per Response: 160.

Burden Hours: 9,600.

Needs and Uses: NIST MEP offers technical and business assistance to small- and medium-sized manufacturers. This is a major program which links all 50 states and Puerto Rico and the manufacturers through more than 400 affiliated MEP Centers and Field Offices. NIST MEP has a number of legislative and contractual requirements for collecting data and information from the MEP Centers. This information is used for the following purposes: (1) Program Accountability,

(2) Reports to Stakeholders, (3) Continuous Improvement; and (4) Identification of Distinctive Practices.

Affected Public: Business or other for-profit organizations.

Frequency: Quarterly, Bi-yearly, Yearly.

Respondent's Obligation: Required to obtain or retain benefits.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

This information collection request may be viewed at www.reginfo.gov. Follow the instructions to view the Department of Commerce collections currently under review by OMB.

Written comments and recommendations for the proposed information collection should be sent within 30 days of publication of this notice to OIRA Submission@omb.eop.gov or fax to (202) 975-5806.

Dated: May 15, 2015.
Glenna Mickelson,
Management Analyst, Office of the Chief Information Officer.

[FR Doc. 2015-12177 Filed 5-19-15; 8:45 am]

BILLING CODE P